ENVIRONMENTAL PROTECTION AGENCY

[FRL-6897-9]

Notice of Availability for Draft EPA Guidelines for Management of Onsite/Decentralized Wastewater Systems and Guidance Manual Outline

AGENCY: Environmental Protection Agency (EPA).

ACTION: Notice; correction.

SUMMARY: The EPA published a document in the Federal Register on October 6, 2000, concerning a request for comments on the draft EPA Guidelines for Management of Onsite/Decentralized Wastewater Systems and Guidance Manual Outline. The document contained an incorrect signature block title.

FOR FURTHER INFORMATION CONTACT: Joyce Hudson, 202-260-1290.

Correction

In the Federal Register of October 6, 2000, 65 FR 59841, in the first column, correct the signature block title for J. Charles Fox to read:

J. Charles Fox,

Assistant Administrator for Office of Water.

Dated: October 26, 2000.
J. Charles Fox,
Assistant Administrator for Office of Water.

[FR Doc. 00-28517 Filed 11-6-00; 8:45 am]

BILLING CODE 6560-50-P